DEPARTMENT OF HEALTH AND HUMAN SERVICES

Centers for Disease Control and Prevention

Prospective Grant of Co-Exclusive License

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a limited field of use, exclusive license in China, and a co-exclusive worldwide (excluding China) license to practice the invention embodied in the patent application referred to below to Ringpu (Baoding) Biologics and Pharmaceuticals Co. LTD., having a place of business in Baoding City, Hebel Province, PR China. CDC intends to grant rights to practice this invention (in territories other than China) to no more than two other co-licensees. The patent rights in these inventions have been assigned to the government of the United States of America. The patent application to be licensed is:

Provisional Patent Application

Title: Method of Sequencing Whole Viral Genomes, Related Compositions, and Genome Sequences.

Serial No. 60/727,038.

Filing date: 10/14/2005.

PCT Patent Application

Title: Rabies Virus Compositions and Methods.

Serial No.: N/A.

Filing Date: 10/13/2006.

Domestic Status: N/A.

Issue Date: patent pending.

The prospective exclusive license will be royalty-bearing and will comply with the terms and conditions of 35 U.S.C. 209 and 37 CFR 404.7.

The critical feature of this technology is the ERA rabies virus whole genome DNA sequence. With the availability of the entire rabies genome, a recombinant vaccine can be developed using reverse genetics. The vaccines that can be developed using this genome are fundamentally different from classic ones that are being produced. The technology is being applied to other negative stranded RNA viruses.

ADDRESSES: Requests for a copy of these patent applications, inquiries, comments, and other materials relating to the contemplated license should be directed to Andrew Watkins, Director, Technology Transfer Office, Centers for Disease Control and Prevention (CDC), 4770 Buford Highway, Mailstop K-79, Atlanta, GA 30341, telephone: (770) 488-8610; facsimile:(770) 488-8615. Applications for an exclusive license to the territory of China filed in response to this notice will be treated as objections to the grant of the contemplated exclusive license. Only written comments and/or applications for a license which are received by CDC within thirty days of this notice will be considered. Comments and objections submitted in response to this notice will not be made available for public inspection, and, to the extent permitted by law, will not be released under the Freedom of Information Act, 5 U.S.C. 552. A signed Confidential Disclosure Agreement will be required to receive a copy of any pending patent application.

Dated: January 31, 2007.
James D. Seligman,
Chief Information Officer, Centers for Disease Control and Prevention.

[FR Doc. E7-2077 Filed 2-7-07; 8:45 am]

BILLING CODE 4163-18-P